DEPARTMENT OF DEFENSE

Department of the Navy

Notice of Availability of Government-Owned Inventions; Available for Licensing

AGENCY: Department of the Navy, DOD.

ACTION: Notice.

SUMMARY: The following inventions are assigned to the United States Government as represented by the Secretary of the Navy and are made available for licensing by the Department of the Navy.

U.S. Patent Number 6,625,896 entitled “Electrolytic Tilt Sensor and Method for Manufacturing Same”, Navy Case Number 82938. U.S. Patent Number 6,802,132 entitled “Electrolytic Tilt Sensor and Method for Manufacturing Same”, Navy Case Number 84300.

ADDRESSES: Requests for copies of the patents cited should be directed to the Space and Naval Warfare Systems Center, San Diego, Office of Research and Technology Applications, Code 2112, 83570 Silvergate Ave., RM 2302, San Diego, CA 92152-5048.

FOR FURTHER INFORMATION CONTACT: Dr. Stephen H. Lieberman, Office of Research and Technology Applications, Space and Naval Warfare Systems Center, San Diego, Code 2112, 83570 Silvergate Ave., RM 2302, San Diego, CA 92152-5048, telephone 619-553-2778, E-Mail: stephen.lieberman@navy.mil

(Authority: 35 U.S.C. 207, 37 CFR Part 404.)

Dated: October 12, 2005.
S.K. Melancon,
Paralegal Specialist, Office of the Judge Advocate General, Alternate Federal Register Liaison Officer.

[FR Doc. 05-21039 Filed 10-20-05; 8:45 am]

BILLING CODE 3810-FF-P